DEPARTMENT OF HEALTH AND HUMAN SERVICES

National Institutes of Health

National Institute on Drug Abuse; Amended Notice of Meeting

Notice is hereby given of a change in the meeting of the National Institute on Drug Abuse Special Emphasis Panel, October 1, 2001, 12:30 p.m. to October 1, 2001, 4:30 p.m., Holiday Inn, 8120 Wisconsin Avenue, Bethesda MD, 20814 which was published in the Federal Register on September 21, 2001, Volume 66 FR 48698.

The meeting has been changed to a teleconference meeting to be held at the Neuroscience Center, NIH, 6001 Executive Blvd., Rockville, MD 20852. The meeting will convene from 1:00 p.m. to 3:00 p.m. The date remains the same. The meeting is closed to the public.

Dated: September 26, 2001.
LaVerne Y. Stringfield,
Director, Office of Federal Advisory Committee Policy.

[FR Doc. 01-24834 Filed 10-3-01; 8:45 am]

BILLING CODE 4140-01-M